DEPARTMENT OF COMMERCE

International Trade Administration

[A-549-820]

Prestressed Concrete Steel Wire Strand From Thailand: Partial Rescission of Antidumping Duty Administrative Review; 2020

AGENCY: Enforcement and Compliance, International Trade Administration, Department of Commerce.

SUMMARY: The Department of Commerce (Commerce) is rescinding the administrative review, in part, of the antidumping duty order on prestressed concrete steel wire strand (PC Strand) from Thailand for the period of review (POR) January 1, 2020, through December 31, 2020.

DATES: Applicable June 24, 2021.

FOR FURTHER INFORMATION CONTACT: Samantha Kinney or Brian Smith, AD/CVD Operations, Office VIII, Enforcement and Compliance, International Trade Administration, U.S. Department of Commerce, 1401 Constitution Avenue NW, Washington, DC 20230; telephone: (202) 482-2285 or (202) 482-1766, respectively.

SUPPLEMENTARY INFORMATION:

Background

On January 5, 2021, Commerce published a notice of opportunity to request an administrative review of the antidumping duty order on PC strand from Thailand.¹ In response to this request, Insteel Wire Products Company, Sumiden Wire Products Corporation, and Wire Mesh Corporation, (the petitioners) filed a timely request for review with respect to Siam Industrial Wire Co., Ltd. (SIW).² Thai Wire Products Public Company Limited (TWP) timely requested an administrative review of itself.³ Based on these requests, in accordance with section 751(a) of the Tariff Act of 1930, as amended (the Act) and 19 CFR 351.213(b), Commerce initiated an administrative review of the antidumping duty order on PC strand from Thailand covering the period January 1, 2020, through December 31, 2020.⁴ TWP timely withdrew its request for an administrative review on May 25, 2021.⁵

¹ See Antidumping or Countervailing Duty Order, Finding, or Suspended Investigation; Opportunity to Request Administrative Review, 86 FR 291 (January 5, 2021).

² See Petitioners' Letter, “Prestressed Concrete Steel Wire Strand from Thailand—Petitioners' Request for 2020 Administrative Review,” dated January 28, 2021.

³ See TWP's Letter, “Prestressed Concrete Steel Wire Strand from Thailand,” dated February 4, 2021.

⁴ See Initiation of Antidumping and Countervailing Duty Administrative Reviews, 86 FR 12599 (March 4, 2021) (Initiation Notice).

⁵ See TWP's Letter, “Administrative Review Withdrawal,” dated March 25, 2021.

Partial Rescission of Administrative Review

Pursuant to 19 CFR 351.213(d)(1), Commerce will rescind an administrative review, in whole or in part, if the party that requested the review withdraws its request within 90 days of the publication date of the notice of initiation of the requested review. As noted above, TWP withdrew its request for an administrative review of itself by the established deadline.⁶

⁶ Id.

Because TWP's request for administrative review was withdrawn within 90 days of the date of publication of the Initiation Notice, and no other interested party requested a review of this company, Commerce is rescinding its review with respect to TWP, in accordance with 19 CFR 351.213(d)(1). The administrative review remains active with respect to SIW, the remaining company for which a review was initiated.

Assessment

Commerce intends to instruct U.S. Customs and Border Protection (CBP) to assess antidumping duties on all appropriate entries of PC strand from Thailand at a rate equal to the cash deposit of estimated antidumping duties required at the time of entry, or withdrawal from warehouse, for consumption, during the period January 1, 2020, through December 31, 2020, in accordance with 19 CFR 351.212(c)(1)(i). Commerce intends to issue assessment instructions to CBP no earlier than 35 days after publication of this notice in the Federal Register.

Notification to Importers

This notice serves as a final reminder to certain importers of their responsibility under 19 CFR 351.402(f)(2) to file a certificate regarding the reimbursement of antidumping duties prior to liquidation of the relevant entries during this review period. Failure to comply with this requirement could result in the presumption that reimbursement of antidumping duties occurred and the subsequent assessment of doubled antidumping duties.

Notification Regarding Administrative Protective Orders

This notice also serves as a final reminder to certain parties subject to administrative protective order (APO) of their responsibility concerning the return or destruction of proprietary information disclosed under APO in accordance with 19 CFR 351.305, which continues to govern business proprietary information in this segment of the proceeding. Timely written notification of the return or destruction of APO materials or conversion to judicial protective order is hereby requested. Failure to comply with the regulations and terms of an APO is a violation which is subject to sanction.

Notification to Interested Parties

This notice is issued and published in accordance with sections 751(a)(1) and 777(i)(l) of the Act, and 19 CFR 351.213(d)(4).

Dated: June 16, 2021.
James Maeder,
Deputy Assistant Secretary for Antidumping and Countervailing Duty Operations.

[FR Doc. 2021-13157 Filed 6-23-21; 8:45 am]

BILLING CODE 3510-DS-P